DEPARTMENT OF LABOR

Employment and Training Administration

Notice of a Virtual Public Meeting of the Advisory Committee on Apprenticeship (ACA)

AGENCY: Employment and Training Administration (ETA), Labor.

ACTION: Notice of a virtual public meeting.

SUMMARY: Pursuant to Section 10 of the Federal Advisory Committee Act (FACA) (5 U.S.C. App. 2 § 10), notice is hereby given to announce an open virtual meeting of the Advisory Committee on Apprenticeship (ACA) on Tuesday, June 3, 2014, which can be accessed from the Office of Apprenticeship's homepage: http://www.doleta.gov/oa/. The ACA is a discretionary committee established by the Secretary of Labor, in accordance with FACA, as amended in 5 U.S.C. App. 2, and its implementing regulations (41 CFR 101-6 and 102-3). All meetings of the ACA are open to the public. A virtual meeting of the ACA provides a cost savings to the government while still offering a venue that allows for public participation and transparency, as required by FACA.

DATES: The meeting will begin at approximately 12:30 p.m. Eastern Standard Time on Tuesday, June 3, 2014, and will adjourn at approximately 4:30 p.m. The meeting is being held virtually. Dial-in instructions will be posted on the Office of Apprenticeship's homepage at http://www.doleta.gov/oa, as well as any updates to the agenda and meeting logistics.

FOR FURTHER INFORMATION CONTACT: The Designated Federal Official, Mr. John V. Ladd, Administrator, Office of Apprenticeship, Employment and Training Administration, U.S. Department of Labor, 200 Constitution Avenue NW., Room N-5311, Washington, DC 20210, Telephone: (202) 693-2796 (this is not a toll-free number).

SUPPLEMENTARY INFORMATION: In order to promote openness, and increase public participation, webinar and audio conference technology will be used throughout the meeting. Webinar and audio instructions will be prominently posted on the Office of Apprenticeship homepage: http://www.doleta.gov/oa/. Members of the public are encouraged to attend the meeting virtually. For members of the public wishing to attend in person, a listening room, with limited seating, will be made available upon request. Members of the public that have made requests to attend in person are encouraged to arrive early to allow for security clearance into the Francis Perkins Building.

Security and Transportation Instructions for the Frances Perkins Building

Meeting participants should use the visitor's entrance to access the Frances Perkins Building, one block north of Constitution Avenue on 3rd and C Streets NW. For security purposes meeting participants must:

1. Present valid photo identification (ID) to receive a visitor badge.

2. Know the name of the event you are attending: the meeting event is the Advisory Committee on Apprenticeship meeting.

3. Visitor badges are issued by the security officer at the Visitor Entrance located at 3rd and C Streets NW., as described above.

4. Laptops and other electronic devices may be inspected and logged for identification purposes.

5. Due to limited parking options, Metro rail is the easiest way to travel to the Frances Perkins Building. For individuals wishing to take metro rail, the closest metro stop to the building is Judiciary Square on the Red Line.

Notice of Intent To Attend the Meeting

1. All meeting participants are being asked to submit a notice of intent to attend by Tuesday, May 20, 2014, via email to Mr. John V. Ladd at oa.administrator@dol.gov, with the subject line “June 2014 Virtual ACA Meeting.”

2. Please indicate if you will be attending virtually, or in person, to ensure adequate space is arranged to accommodate all meeting participants.

3. If individuals have special needs and/or disabilities that will require special accommodations, please contact Kenya Huckaby on (202) 693-3795 or via email at huckaby.kenya@dol.gov no later than Tuesday, May 20, 2014.

4. Any member of the public who wishes to file written data or comments pertaining to the agenda may do so by sending the data or comments to Mr. John V. Ladd via email at oa.administrator@dol.gov, subject line “June 2014 Virtual ACA Meeting,” or to the Office of Apprenticeship, Employment and Training Administration, U.S. Department of Labor, Room N-5311, 200 Constitution Avenue NW., Washington, DC 20210. Such submissions will be included in the record for the meeting if received by Tuesday, May 20, 2014.

5. See below regarding members of the public wishing to speak at the ACA meeting.

Purpose of the Meeting and Topics To Be Discussed

The primary purpose of the meeting is to discuss and focus on committee updates and several recent initiatives impacting the national Registered Apprenticeship system. The meeting agenda will include the following topics:

• Updates on the American Apprenticeship Grant Initiative

• Report Outs and Updates from Workgroups

• Plans for Manufacturing Focused Meeting in September 2014

• Status and Activity of Committee after June 2014

• Other Matters of Interest to the Apprenticeship Community

• Public Comment

• Adjourn

The agenda and meeting logistics may be updated should priority items come before the ACA between the time of this publication and the scheduled date of the ACA meeting. All meeting updates will be posted to the Office of Apprenticeship's homepage: http://www.doleta.gov/oa/. Any member of the public who wishes to speak at the meeting should indicate the nature of the intended presentation and the amount of time needed by furnishing a written statement to the Designated Federal Official, Mr. John V. Ladd, by Tuesday, May 20, 2014. The Chairperson will announce at the beginning of the meeting the extent to which time will permit the granting of such requests.

Portia Wu,
Assistant Secretary for the Employment and Training Administration.

[FR Doc. 2014-10985 Filed 5-13-14; 8:45 am]

BILLING CODE 4510-FR-P